FEDERAL COMMUNICATIONS COMMISSION

47 CFR Part 25

[SB Docket No. 25-305; DA 25-1060; FR ID 322962]

Space Bureau Extends Comment and Reply Comment Deadlines for Notice of Proposed Rulemaking Regarding Facilitating More Intensive Use of Upper Microwave Spectrum

AGENCY: Federal Communications Commission.

ACTION: Notice; request for comments.

SUMMARY: In the document, the Space Bureau extends the comment and reply comment deadlines for the Facilitating More Intensive Use of Upper Microwave Spectrum Notice of Proposed Rulemaking in SB Docket No. 25-305, FCC 25-70, that was released on October 29, 2025 and published in the Federal Register on December 3, 2025.

DATES: The comment deadline for the proposed rule published December 3, 2025, at 90 FR 55702 is extended to January 20, 2026, and the extended reply comment deadline is February 18, 2026.

ADDRESSES: Pursuant to §§ 1.415 and 1.419 of the Commission's rules, 47 CFR 1.415, 1.419, interested parties may file comments and reply comments on or before the dates indicated on the first page of this document. Comments may be filed using the Commission's Electronic Comment Filing System (ECFS). You may submit comments, identified by SB Docket No. 25-305, by any of the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530.

FOR FURTHER INFORMATION CONTACT: Jake Riehm, 202-418-2166, Jake.Riehm@fcc.gov or Kerry Murray, 202-418-0734, Kerry.Murray@fcc.gov.

SUPPLEMENTARY INFORMATION: This is a summary of the Commission's document (Public Notice), in SB Docket No. 25-305, DA 25-1060, released December 16, 2025. The document is available for public inspection online at https://docs.fcc.gov/public/attachments/DA-25-1060A1.pdf. The document is also available for inspection and copying during business hours in the FCC Reference Center, 45 L Street NE, Washington, DC 20554.

Synopsis

1. In the document, the Space Bureau extends the deadlines for filing comments and reply comments for the Facilitating More Intensive Use of Upper Microwave Spectrum Notice of Proposed Rulemaking (UMFUS NPRM) in SB Docket No. 25-305 to January 20, 2026 and February 18, 2026, respectively.

2. On October 29, 2025, the Federal Communications Commission (Commission) released the UMFUS NPRM seeking comment on section 25.136 of the Commission's rules, which governs spectrum sharing between the terrestrial Upper Microwave Flexible Use Service and the Fixed Satellite Service. The UMFUS NPRM specified that comments and reply comments would be due 30 and 60 days after Federal Register publication. That publication occurred on December 3, 2025, announcing a comment filing deadline of January 2, 2026 and a reply comment date of February 2, 2026.

3. On December 11, 2025, CTIA requested extension of the comment and reply comment filing deadlines until January 20, 2026 and February 18, 2026. In its request, CTIA begins by noting that the issues in the UMFUS NPRM are complex and intersect with proposals contained in the simultaneously-adopted Notice of Proposed Rulemaking addressing Space Modernization (Modernization NPRM), which has a comment deadline of January 20, 2026 and a reply comment deadline of February 18, 2026. CTIA argues that that alignment of the pleading cycles for the UMFUS NPRM and the Modernization NPRM would allow commenters to provide integrated, consistent, and nonduplicative analyses in both proceedings, as well as a more fulsome record for the Commission to review. CTIA also argues that the brief extension requested would not harm any other party in this proceeding, alter any substantive rights, or prejudice any participant. Finally, CTIA states that the requested deadline changes—extending the comment window by less than three weeks and the reply comment window by just over two weeks—would not cause significant delay or impede Commission consideration or timelines, as the new dates align with already-established dates for the Modernization NPRM.

4. As set forth in § 1.46(a) of the Commission's rules, the Commission's policy is that extensions of time shall not be routinely granted. The Space Bureau finds, however, that CTIA has provided sufficient justification to warrant grant of their requested extension. An extension would enable interested parties to present more complete comments to the Commission, and the Space Bureau agrees with CTIA that the extension should not disadvantage any party or cause significant delay in the resolution of this proceeding.

Federal Communications Commission.
Kerry Murray,
Deputy Chief and Chief of Staff, Space Bureau.

[FR Doc. 2025-23625 Filed 12-19-25; 8:45 am]

BILLING CODE 6712-01-P